INTERNATIONAL TRADE COMMISSION

[Investigation No. 731-TA-702 (Third Review)]

Ferrovanadium and Nitrided Vanadium From Russia

Determination

On the basis of the record ¹ developed in the subject five-year review, the United States International Trade Commission (Commission) determines, pursuant to section 751(c) of the Tariff Act of 1930 (19 U.S.C. 1675(c)), that revocation of the antidumping duty order on ferrovanadium and nitrided vanadium from Russia would not be likely to lead to continuation or recurrence of material injury to an industry in the United States within a reasonably foreseeable time.

¹ The record is defined in sec. 207.2(f) of the Commission's Rules of Practice and Procedure (19 CFR 207.2(f)).

Background

The Commission instituted this review on September 1, 2011 (76 FR 54490) and determined on December 5, 2011 that it would conduct a full review (76 FR 79214, December 21, 2011). Notice of the scheduling of the Commission's review and of a public hearing to be held in connection therewith was given by posting copies of the notice in the Office of the Secretary, U.S. International Trade Commission, Washington, DC, and by publishing the notice in the Federal Register on February 8, 2012 (77 FR 6582). The hearing was held in Washington, DC, on June 21, 2012, and all persons who requested the opportunity were permitted to appear in person or by counsel.

The Commission transmitted its determination in this review to the Secretary of Commerce on August 22, 2012. The views of the Commission are contained in USITC Publication 4345 (August 2012), entitled Ferrovanadium and Nitrided Vanadium from Russia: Investigation No. 731-TA-702 (Third Review).

Issued: August 22, 2012.
By order of the Commission.
Lisa R. Barton,
Acting Secretary to the Commission.

[FR Doc. 2012-21048 Filed 8-24-12; 8:45 am]

BILLING CODE 7020-02-P